DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Commodity Flow Survey Advance Questionnaire; a Component of the 2017 Economic Census.

OMB Control Number: 0607-0921.

Form Number(s): None.

Type of Request: Reinstatement, with change, of an expired collection.

Number of Respondents: 150,000.

Average Hours per Response: 5 minutes.

Burden Hours: 12,500.

Needs and Uses: The U.S. Census Bureau plans to conduct the 2017 Commodity Flow Survey (CFS) as a part of the quinquennial Economic Census. In advance of the 2017 CFS, we will conduct the 2017 CFS Advance Questionnaire, which is the subject of this request. The 2017 CFS will be the subject of a separate Office of Management and Budget (OMB) clearance submission in the spring of 2016.

The information collected in the 2017 CFS Advance Questionnaire will be used to: Improve the quality of the information the Census Bureau has on the 2017 CFS universe with associated improvements in sampling efficiency, and to provide contact information for the selected establishments, reducing the cost and improving the timeliness of data collection for the 2017 CFS.

The CFS, a component of the Economic Census, is the only comprehensive source of multi-modal, system-wide data on the volume and pattern of goods movement in the United States. The CFS is conducted in partnership with the Bureau of Transportation Statistics (BTS), Office of the Assistant Secretary for Research and Technology, U.S. Department of Transportation.

An advance letter will be mailed to a sample from U.S. manufacturing, mining, and wholesale establishments, enterprise support establishments, electronic shopping, mail-order houses, and publishing establishments, and establishments expected to be selected with certainty in the 2017 CFS. Selected small establishments from industries with a high incidence of non-shipping activity will also receive the letter. The Census Bureau is streamlining operations to conserve taxpayer time and money. This includes moving from paper-based data collection operations to on-line-based data collection operations. The letter will direct the selected establishments to complete the on-line 2017 CFS Advance Questionnaire. No paper questionnaires were created for mailing. Respondents will have the opportunity to print what they report on the on-line questionnaire at the time of data submission for their records.

The six items on the on-line questionnaire attempt the following for each establishment/location:

(1) Verify shipping status

(2) Verify and update physical shipping address

(3) Determine the amount of annual shipping activity

(4) Verify and update mailing address/contact information

All information collected in the 2017 CFS Advance Questionnaire will be used internally to improve the 2017 CFS universe and mail-out processing.

Affected Public: Business or other for-profit.

Frequency: Every 5 years.

Respondent's Obligation: Mandatory.

Legal Authority: The Census Bureau will conduct the 2017 CFS Advance Questionnaire under authority of title 13, U.S.C., sections 8(b), 131 and, 193. Title 13, U.S.C., sections 224 and 225 require response. The BTS also has authority to collect these data based on its enabling legislation at 49 U.S.C., section 6302.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
PRA Lead, Office of the Chief Information Officer.

[FR Doc. 2015-24232 Filed 9-23-15; 8:45 am]

BILLING CODE 3510-07-P